DEPARTMENT OF DEFENSE

Defense Acquisition Regulations System

[DFARS Case 2009-D012]

48 CFR Parts 225 and 252

Defense Federal Acquisition Regulation Supplement; Foreign Participation in Acquisitions in Support of Operations in Afghanistan

AGENCY: Department of Defense (DoD).

ACTION: Proposed rule; correction of comment date.

SUMMARY: DoD is proposing to amend the Defense Federal Acquisition Regulation Supplement (DFARS) to implement: Waiver of the section 302(a) of the Trade Agreements Act of 1979, as amended, which prohibits acquisitions of products or services from non-designated countries, in order to allow acquisition from the nine South Caucasus/Central and South Asian (SC/CASA) states; and Determination of inapplicability of the Balance of Payments Program evaluation factor to offers of products (other than arms, ammunition, or war materials) from the SC/CASA states to support operations in Afghanistan. The end of the comment period was erroneously published as March 9, 2009, rather than March 9, 2010.

DATES: Comment date: Comments on the proposed rule published January 6, 2010 (75 FR 832), should be submitted in writing to the address shown below on or before March 9, 2010.

ADDRESSES: You may submit comments, identified by DFARS Case 2009-D012, using any of the following methods:

• Federal eRulemaking Portal: http://www.regulations.gov. Follow the instructions for submitting comments.

• E-mail: dfars@osd.mil. Include DFARS Case 2009-D012 in the subject line of the message.

• Fax: (703) 602-0305.

• Mail: Defense Acquisition Regulations System, Attn: Ms. Amy Williams, OUSD (AT&L) DPAP (DARS), IMD 3D139, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Amy Williams, (703) 602-0328.

SUPPLEMENTARY INFORMATION:

A. Background

On January 6, 2010, DoD published a proposed rule in the Federal Register (75 FR 832). The comment date is being corrected from March 9, 2009, to March 9, 2010.

Amy G. Williams,
Editor, Defense Acquisition Regulations System.

[FR Doc. 2010-380 Filed 1-11-10; 8:45 am]

BILLING CODE 5001-08-P